DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR described the nature of the information collection and its expected burden. A Federal Register Notice with a 60-day comment period soliciting public comments on the following information collection was published on December 26, 2013 (Federal Register/Vol. 78, No. 248/pp. 78504-78505).

DATES: Submit comments to the Office of Management and Budget (OMB) on or before May 30, 2014.

FOR FURTHER INFORMATION CONTACT: Dr. Kathy Sifrit, Contracting Officer's Technical Representative, Office of Behavioral Safety Research (NTI-132), National Highway Traffic Safety Administration, 1200 New Jersey Avenue SE., W46-472, Washington, DC 20590. Dr. Sifrit's phone number is (202) 366-0868 and her email address is kathy.sifrit@dot.gov.

SUPPLEMENTARY INFORMATION: OMB Control Number: 2127—New.

Title: Mild Cognitive Impairment and Driving Performance.

Form No.: NHTSA Form 1240.

Type of Review: Regular.

Respondents: Drivers age 60 and older who have responded to a solicitation for participation in a study of aging, cognition, and driving safety and have provided a phone number and/or email for contact.

Estimated Number of Respondents: It is estimated that 90 telephone conversations will be conducted with respondents to descriptive solicitations, to yield 60 participants.

Estimated Time per Response: The estimated time to respond to questions in the telephone conversations is 10 minutes for each telephone conversation with a respondent. If an Optional Task is funded, up to 30 of the initial 60 participants would be contacted monthly by phone for one year, at an estimated 10 minutes per call.

Total Estimated Annual Burden Hours: 15 hours (without the Optional Task). The Optional Task total estimated annual burden is 60 hours.

Frequency of Collection: Without the Optional Task, the questions will be presented a single time. The Optional Task will add 12 contacts per participant in which questions are presented.

Abstract

Older adults comprise an increasing proportion of the (driving) population and there is concern about the effects of mild cognitive impairment (MCI) on driver performance and safety. MCI becomes more prevalent with advancing age. The objective of this project is to document differences in driving performance and exposure between participants with MCI and a comparison group of cognitively normal drivers of similar age. The National Highway Traffic Safety Administration (NHTSA) proposes to collect information from licensed older drivers about their driving habits in order to determine whether they are eligible to participate in a study of the effects of mild cognitive impairment on driving performance. Drivers will volunteer for the study by responding to a mailed or individually delivered solicitation. Researchers will ask drivers a brief (<10 minutes) series of questions to determine eligibility to participate in the study, then describe the proposed study to respondents who qualify. Each driver who meets study inclusion criteria will then be asked if he or she wishes to participate. If yes, a project assistant will ask for a description of the car in order to identify it and install a data collection system that will collect all remaining data necessary for the study. The questions will allow research staff to ensure that prospective participants meet study inclusion criteria and facilitate installing data collection instruments in each participant's vehicle. The findings from this study will help clinicians to identify and intervene when a client with dementia begins to exhibit potentially risky driving behaviors. NHTSA will use the information to develop recommendations to health care providers and to the public regarding when the progression of a condition causing cognitive impairment results in the need to transition from driving, with the ultimate goal of reducing injuries and loss of life on the highway.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Issued in Washington, DC on April 25, 2014.
Jeff Michael,
Associate Administrator, Research and Program Development.

[FR Doc. 2014-09839 Filed 4-29-14; 8:45 am]

BILLING CODE P